DEPARTMENT OF HOMELAND SECURITY

Federal Emergency Management Agency

[Docket ID FEMA-2020-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama: Limestone (FEMA Docket No.: B-1981). | City of Huntsville (19-04-3429P). | The Honorable Thomas Battle, Jr., Mayor, City of Huntsville, 308 Fountain Circle, 8th Floor, Huntsville, AL 35801. | City Hall, 308 Fountain Circle, 8th Floor, Huntsville, AL 35801. | Mar. 9, 2020 | 010153
Colorado:
Boulder (FEMA Docket No.: B-1974). | City of Boulder (19-08-0629P). | The Honorable Suzanne Jones, Mayor, City of Boulder, 1777 Broadway Street, Boulder, CO 80302. | Central Records Department, 1777 Broadway Street, Boulder, CO 80302. | Feb. 24, 2020 | 080024
Larimer (FEMA Docket No.: B-1981). | Unincorporated areas of Larimer County (19-08-0367P). | The Honorable Tom Donnelly, Chairman, Larimer County Board of Commissioners, P.O. Box 1190, Fort Collins, CO 80522. | Larimer County Engineering Department, 200 West Oak Street, Suite 3000, Fort Collins, CO 80521. | Feb. 21, 2020 | 080101
Delaware:
New Castle (FEMA Docket No.: B-1974). | Unincorporated areas of New Castle County (19-03-0220P). | Mr. Matthew Meyer, New Castle County Executive, 87 Reads Way, New Castle, DE 19720. | New Castle County Government Center, 87 Reads Way, New Castle, DE 19720. | Feb. 6, 2020 | 105085
New Castle (FEMA Docket No.: B-1981). | Unincorporated areas of New Castle County (19-03-0484P). | The Honorable Matthew Meyer, New Castle County Executive, 87 Read Way, New Castle, DE 19720. | New Castle County Land Use Department, 87 Read Way, New Castle, DE 19720. | Feb. 13, 2020 | 105085
Florida:
Monroe (FEMA Docket No.: B-1981). | Unincorporated areas of Monroe County (19-04-6687P). | The Honorable Sylvia Murphy, Mayor, Monroe County Board of Commissioners, 102050 Overseas Highway, Suite 234, Key Largo, FL 33037. | Monroe County Building Department, 2798 Overseas Highway, Suite 300, Marathon. FL 33050. | Mar. 2, 2020 | 125129
Osceola (FEMA Docket No.: B-1981). | City of St. Cloud (19-04-0759P). | The Honorable Nathan Blackwell, Mayor, City of St. Cloud, 1300 9th Street, St. Cloud, FL 34769. | City Hall, 1300 9th Street, St. Cloud, FL 34769. | Feb. 28, 2020 | 120191
Osceola (FEMA Docket No.: B-1981). | Unincorporated areas of Osceola County (19-04-0759P). | The Honorable Fred Hawkins, Jr., Chairman, Osceola County Board of Commissioners, 1 Courthouse Square, Suite 4700, Kissimmee, FL 34741. | Osceola County Human Resources Department, 1 Courthouse Square, Suite 4700, Kissimmee, FL 34741. | Feb. 28, 2020 | 120189
Pasco (FEMA Docket No.: B-1981). | Unincorporated areas of Pasco County (19-04-0816P). | Mr. Dan Biles, Pasco County Administrator, 8731 Citizens Drive, New Port Richey, FL 34652. | Pasco County Facilities Management Department, 38301 McDonald Street, Dade City, FL 33525. | Feb. 24, 2020 | 120230
Sarasota (FEMA Docket No.: B-1981). | City of Sarasota (19-04-4552P). | The Honorable Liz Alpert, Mayor, City of Sarasota, 1565 1st Street, Room 101, Sarasota, FL 34236. | Development Services Department, 1565 1st Street, Sarasota, FL 34236. | Feb. 24, 2020 | 125150
Louisiana:
Lafayette (FEMA Docket No.: B-1981). | City of Youngsville (18-06-2837P). | The Honorable Ken Ritter, Mayor, City of Youngsville, 305 Iberia Street, Youngsville, LA 70592. | City Hall, 305 Iberia Street, Youngsville, LA 70592. | Feb. 6, 2020 | 220358
Montana:
Gallatin (FEMA Docket No.: B-1981). | City of Bozeman (19-08-0500P). | Ms. Andrea Surratt, City of Bozeman Manager, P.O. Box 1230, Bozeman, MT 59771. | City Hall, 20 East Olive Street, Bozeman, MT 59715. | Mar. 2, 2020 | 300028
Gallatin (FEMA Docket No.: B-1981). | Unincorporated areas of Gallatin County (19-08-0500P). | The Honorable Joe P. Skinner, Chairman, Gallatin County Board of Commissioners, 311 West Main Street, Room 306, Bozeman, MT 59715. | Gallatin County Department of Planning and Community Development Department, Bozeman, MT 59715. | Mar. 2, 2020 | 300027
Nevada:
Clark (FEMA Docket No.: B-1981). | City of Henderson (19-09-0090P). | Mr. Richard A. Derrick, City of Henderson Manager, P.O. Box 95050, Henderson, NV 89009. | Public Works Department, 240 South Water Street, Henderson, NV 89009. | Feb. 5, 2020 | 320005
Clark (FEMA Docket No.: B-1981). | Unincorporated areas of Clark County (19-09-0090P). | The Honorable Marilyn Kirkpatrick, Chair, Clark County Board of Commissioners, 500 South Grand Central Parkway, Las Vegas, NV 89155. | Clark County Drainage Review Department, 500 South Grand Central Parkway, Las Vegas, NV 89155. | Feb. 5, 2020 | 320003
North Carolina:
Cleveland (FEMA Docket No.: B-1981). | Unincorporated areas of Cleveland County (19-04-0261P). | The Honorable Susan K. Allen, Chair, Cleveland County Board of Commissioners, 311 East Marion Street, Shelby, NC 28150.. | Cleveland County Planning Department, 1333 Fallston Road, Shelby, NC 28150. | Mar. 6, 2020 | 370302
Cumberland (FEMA Docket No.: B-2006). | Town of Hope Mills (18-04-6701P). | The Honorable Jackie Warner, Mayor, Town of Hope Mills, 5770 Rockfish Road, Hope Mills, NC 28348. | Town Hall, 5770 Rockfish Road, Hope Mills, NC 28348. | Mar. 6, 2020 | 370312
Cumberland (FEMA Docket No.: B-2006). | Unincorporated areas of Cumberland County (18-04-6701P). | The Honorable W. Marshall Faircloth, Chairman, Cumberland County Board of Commissioners, P.O. Box 1829, Fayetteville, NC 28302l | Cumberland County Engineering and Infrastructure Department, 130 Gillespie Street, Suite 214, Fayetteville, NC 28301l | Mar. 6, 2020 | 370076
Ohio:
Warren (FEMA Docket No.: B-1974). | City of Lebanon (19-05-2274P). | The Honorable Amy Brewer, Mayor, City of Lebanon, 50 South Broadway Street, Lebanon, OH 45036. | Engineering Department, 50 South Broadway Street, Lebanon, OH 45036. | Feb. 10, 2020 | 390557.
Oklahoma:
Canadian (FEMA Docket No.: B-1974). | City of Oklahoma City (19-06-3217P). | The Honorable David Holt, Mayor, City of Oklahoma City, 200 North Walker Avenue, Oklahoma City, OK 73102. | Department of Public Works, 420 West Main Street, Suite 700, Oklahoma City, OK 73102. | Feb. 21, 2020. | 405378
Tulsa (FEMA Docket No.: B-1974). | City of Collinsville (19-06-1337P). | The Honorable Bud York, Mayor, City of Collinsville, P.O. Box 730, Collinsville, OK 74021. | Engineering Department, 106 North 12th Street, Collinsville, OK 74021. | Feb. 10, 2020 | 400360
Tulsa (FEMA Docket No.: B-1974). | Unincorporated areas of Tulsa County (19-06-1337P). | The Honorable Karen Keith, Chair, Tulsa County Board of Commissioners, 500 South Denver Avenue, Tulsa, OK 74103. | Tulsa County Inspections Department, 633 West 3rd Street, Tulsa, OK 74127. | Feb. 10, 2020 | 400462
Texas:
Bexar (FEMA Docket No.: B-1981). | City of Schertz (19-06-1878P). | The Honorable Michael Carpenter, Mayor, City of Schertz, 1400 Schertz Pkwy, Schertz, TX 78154. | Public Works Department, Floodplain Management Division, 10 Commercial Place, Schertz, TX 78154. | Feb. 10, 2020 | 480269
Bexar (FEMA Docket, No.: B-1981). | Unincorporated areas of Bexar County (19-06-0327P). | The Honorable Nelson W. Wolff, Bexar County Judge, 101 West Nueva Street, 10th Floor, San Antonio, TX 78205. | Bexar County Public Works Department, 1948 Probandt Street, San Antonio, TX 78214. | Feb. 18, 2020 | 480035
Collin (FEMA Docket No.: B-1981). | City of Murphy (19-06-0931P). | The Honorable Scott Bradley, Mayor, City of Murphy, 206 North Murphy Road, Murphy, TX 75094. | City Hall, 206 North Murphy Road, Murphy, TX 75094. | Feb. 10, 2020 | 480137
Collin (FEMA Docket, No.: B-1981). | City of Plano (20-06-0039P). | The Honorable Harry LaRosiliere, Mayor, City of Plano, 1520 K Avenue, Plano, TX 75074. | Department of Engineering, 1520 K Avenue, Plano, TX 75074. | Feb. 28, 2020 | 480140
Collin (FEMA Docket No.: B-1981). | City of Sachse (19-06-0931P). | The Honorable Mike Felix, Mayor, City of Sachse, 3815 Sachse Road, Building B, Sachse, TX 75048. | Public Works Department, 3815 Sachse Road, Building B, Sachse, TX 75048. | Feb. 10, 2020 | 480186
Denton (FEMA Docket No.: B-1981). | Town of Argyle (19-06-1846P). | The Honorable Donald Moser, Mayor, Town of Argyle, P.O. Box 609, Argyle, TX 76226. | Town Hall, 308 Denton Street, Argyle, TX 76226. | Feb. 28, 2020 | 480775
Johnson (FEMA Docket No.: B-1981). | City of Burleson (19-06-0971P). | The Honorable Ken Shetter, Mayor, City of Burleson, 141 West Renfro Street, Burleson, TX 76028. | City Hall, 141 West Renfro Street, Burleson, TX 76028. | Feb. 24, 2020 | 485459
McClennan (FEMA Docket No.: B-1981). | City of Waco (18-06-2475P). | The Honorable Kyle Deaver, Mayor, City of Waco, P.O. Box 2570, Waco, TX 76702. | Public Works Department, 401 Franklin Avenue, Waco, TX 76701. | Feb. 7, 2020 | 480461
Tarrant (FEMA Docket No.: B-1981). | City of Arlington (19-06-1226P). | The Honorable Jeff Williams, Mayor, City of Arlington, P.O. Box 90231, Arlington, TX 76004. | Public Works and Transportation Department, 101 West Abram Street, Arlington, TX 76010. | Feb. 27, 2020 | 485454
Tarrant (FEMA Docket No.: B-1974). | City of Euless (19-06-0184P). | The Honorable Linda Martin, Mayor, City of Euless, 201 North Ector Drive, Euless, TX 76039. | Planning and Engineering Department, 201 North Ector Drive, Euless, TX 76039. | Feb. 6, 2020 | 480593
Tarrant (FEMA Docket No.: B-1974). | City of Fort Worth (19-06-0498P). | The Honorable Betsy Price, Mayor, City of Fort Worth, 200 Texas Street, Fort Worth, TX 76102. | Transportation and Public Works Department, Engineering Vault, 200 Texas Street, Fort Worth, TX 76102. | Feb. 6, 2020 | 480596
Tarrant (FEMA Docket, No.: B-1981). | City of Fort Worth (19-06-0840P). | The Honorable Betsy Price, Mayor, City of Fort Worth, 200 Texas Street, Fort Worth, TX 76102. | Transportation and Public Works, Engineering Department, 200 Texas Street, Fort Worth, TX 76102. | Mar. 2, 2020 | 480596
Tarrant (FEMA Docket No.: B-1981). | City of Fort Worth (19-06-3630P). | The Honorable Betsy Price, Mayor, City of Fort Worth, 200 Texas Street, Fort Worth, TX 76102. | Transportation and Public Works, Engineering Department, 200 Texas Street, Fort Worth, TX 76102. | Feb. 28, 2020 | 480596
Tarrant (FEMA Docket, No.: B-1974). | City of Haltom City (19-06-0498P). | The Honorable An Truong, Mayor, City of Haltom City, 5024 Broadway Avenue, Haltom City, TX 76117. | Public Works Services Department, 4200 Hollis Street, Haltom City, TX 76111. | Feb. 6, 2020 | 480599
Utah: Salt Lake (FEMA Docket No.: B-1974) | City of Riverton (19-08-0446P) | The Honorable Trent Staggs, Mayor, City of Riverton, 12830 South Redwood Road, Riverton, UT 84065 | Public Works Department, 12526 South 4150 West, Riverton, UT 84096 | Feb. 13, 2020 | 490104
Washington (FEMA Docket No.: B-1981). | City of St. George (19-08-0174P). | The Honorable Jon Pike, Mayor, City of St. George, 175 East 200 North, St. George, UT 84770. | Public Works Department, 175 East 200 North, St. George, UT 84770. | Feb. 21, 2020 | 490177
Washington (FEMA Docket No.: B-1981). | City of Santa Clara (19-08-0174P). | The Honorable Rick Rosenberg, Mayor, City of Santa Clara, 2603 Santa Clara Drive, Santa Clara, UT 84765. | Building Department, 2603 Santa Clara Drive, Santa Clara, UT 84765. | Feb. 21, 2020 | 490178

[FR Doc. 2020-05518 Filed 3-16-20; 8:45 am]

BILLING CODE 9110-12-P